DEPARTMENT OF COMMERCE

National Oceanic and Atmospheric Administration

RIN 0648-XG840

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Groundfish Endangered Species Workgroup will hold a two-day meeting open to the public.

DATES: The meeting will begin at 9 a.m. on Tuesday, April 30, 2019 and 9 a.m. on Wednesday, May 1, 2019 until business for the day has been completed.

ADDRESSES: The meeting will be held in the Large Conference Room of Building 1 of the NOAA Western Regional Center, 7600 Sand Point Way NE, Seattle, WA 98115-6349. Members of the public can participate in person, via teleconference, and/or through GoToWebinar. Members of the public who wish to attend the meeting in person must contact Mr. Brian Hooper (brian.hooper@noaa.gov or (206) 526-6117) at least one week prior to the meeting to arrange entrance to this NOAA facility. To attend the meeting via webinar, see SUPPLEMENTARY INFORMATION.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: To attend the webinar (1) join the meeting by visiting this link https://www.gotomeeting.com/webinar, (2) enter the Webinar ID: 839-781-363, and (3) enter your name and email address (required). After logging in to the webinar, please (1) dial this TOLL number 1-914-614-3221 (not a toll-free number), (2) enter the attendee phone audio access code 418-920-840, and (3) then enter your audio phone pin (shown after joining the webinar). NOTE: We have disabled Mic/Speakers as an option and require all participants to use a telephone or cell phone to participate. Technical Information and system requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at (503) 820-2280, extension 411 for technical assistance.

The primary purpose of the meeting is to review recent information on take of species listed under the Endangered Species Act in the Pacific Coast groundfish fishery (other than salmonids). The workgroup will provide recommendations to the Council on any additional mitigation measures needed to meet the requirements of the Act, as implemented through the terms and conditions in the most recent biological opinions for the fishery.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2411 at least 10 business days prior to the meeting date.

Dated: April 10, 2019.
Rey Israel Marquez,
Acting Deputy Director, Office of Sustainable Fisheries, National Marine Fisheries Service.

[FR Doc. 2019-07445 Filed 4-12-19; 8:45 am]

BILLING CODE 3510-22-P